DEPARTMENT OF ENERGY

Federal Energy Regulatory Commission

[Project No. 12715-003]

Fairlawn Hydroelectric Company, LLC; Notice of Availability of Final Environmental Assessment

In accordance with the National Environmental Policy Act of 1969 and the Federal Energy Regulatory Commission's regulations, 18 CFR part 380, the Office of Energy Projects has reviewed the application for an original license for the proposed 14,000-kilowatt (kW) Jennings Randolph Hydroelectric Project located on the North Branch Potomac River in Garrett County, Maryland and Mineral County, West Virginia, at the U.S. Army Corps of Engineers' (Corps) Jennings Randolph Dam and has prepared a final environmental assessment (EA) in cooperation with the U.S. Army Corps of Engineers. In the final EA, Commission staff analyzes the potential environmental effects of licensing the project and concludes that issuing a license for the construction and operation of the project, with appropriate environmental measures, would not constitute a major federal action significantly affecting the quality of the human environment.

A copy of the final EA is on file with the Commission and is available for public inspection. The final EA may also be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659.

You may also register online at http://www.ferc.gov/docs-filing/esubscription.asp to be notified via email of new filings and issuances related to this or other pending projects. For assistance, contact FERC Online Support.

For further information contact Allyson Conner at (202) 502-6082.

Dated: April 30, 2012.
Kimberly D. Bose,
Secretary.

[FR Doc. 2012-10780 Filed 5-3-12; 8:45 am]

BILLING CODE 6717-01-P